DEPARTMENT OF LABOR

Employment and Training Administration

Request for Extension of Previously Approved Information Collection: ATAA Activities Report, Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the Alternative Trade Adjustment Assistance Activities Report (ATAAAR). A copy of the proposed collection request (ICR) can be obtained by contacting the office listed below in the addressee section of this notice by accessing: http://www.doleta.gov/OMBCN/OMBControlNumber.cfm.

DATES: Written comments must be submitted to the office listed below on or before March 23, 2009.

ADDRESSES: Submit written comments to Susan Worden, U.S. Department of Labor, Employment and Training Administration, Room C-5325, 200 Constitution Avenue, Phone: 202-693-3708 (this is not a toll-free number), Fax: 202.693.3517, E-mail worden.susan@dol.gov.

SUPPLEMENTARY INFORMATION: I. Section 246 of Title II, Chapter 2 of the Trade Act of 1974, as amended by the Trade Act of 2002, establishes ATAA as an alternative assistance program for older workers certified eligible to apply for Trade Adjustment Assistance. This program is effective for petitions filed on or after August 6, 2003. ATAA is designed to allow eligible older workers for whom retraining may not be appropriate to quickly find reemployment and receive a wage subsidy to help bridge the salary gap between their old and new employment. To receive the ATAA benefits, workers must be TAA and ATAA certified.

Key workload data on ATAA is needed to measure program activities and to allocate program and administrative funds to the State Agencies administering the Trade programs for the Secretary. States will provide this information on the ATAA Activities Report (ATAAAR).

Regulations published at 617.61 give the Secretary authority to require the States to report the data described in this directive; therefore the respondents' obligation to fulfill these requirements is mandatory.

II. Review Focus:

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions:

Type of Review: Extension without change.

Agency: Employment and Training Administration.

Title: Alternative Trade Adjustment Assistance Activities Report (ATAAAR), ETA.

OMB Number: 1205-0459.

Recordkeeping: Respondent is expected to maintain records which support the requested data for three years.

Affected Public: State, Local or Tribal Government.

Burden (annual): 50 Responses × .43 Hours × 4 quarters = 86 hours.

Total Respondents: 50.

Frequency: Quarterly.

Total Responses: 200 annually.

Average Time per Response: .43 Hours.

Estimated Total Burden Hours: 86 Hours.

Total Burden Cost (capital/startup): $0.

Total Burden Cost (operating/maintaining): $0.

Comments submitted in response to this notice will be summarized and/or included in the request for Office of Management and Budget approval of the information collection request; they will also become a matter of public record.

Dated: January 12, 2009.
Erin FitzGerald,
Director, Division of Trade Adjustment Assistance, Office of National Response, Employment and Training Administration.

[FR Doc. E9-1027 Filed 1-16-09; 8:45 am]

BILLING CODE 4510-FN-P